DEPARTMENT OF ENERGY

Federal Energy Regulatory Commission

Combined Notice of Filings#1

March 16, 2009.

Take notice that the Commission received the following electric rate filings:

Docket Numbers: ER06-787-008.

Applicants: Idaho Power Company.

Description: Compliance filing of Idaho Power Company.

Filed Date: 03/11/2009.

Accession Number: 20090311-5198.

Comment Date: 5 p.m. Eastern Time on Wednesday, April 1, 2009.

Docket Numbers: ER07-1356-009; ER07-1358-008; ER07-1112-007; ER07-1113-007; ER07-1115-008; ER07-1116-006; ER07-1117-008; ER07-1118-008; ER07-1120-008; ER07-1122-008; ER00-2885-023; ER01-2765-022; ER08-148-008; ER02-1582-020; ER05-1232-017; ER03-1283-017; ER02-2102-022; ER09-335-003.

Applicants: J.P. Morgan Ventures Energy Corporation, BE Allegheny LLC, BE CA LLC, BE Colquitt LLC, BE Ironwood LLC, BE KJ LLC, BE Rayle LLC, BE Satilla LLC, BE Walton LLC, BE Alabama LLC, BE Louisiana LLC, Central Power & Lime, Inc., Cedar Brakes I, L.L.C., Mohawk River Funding IV, L.L.C., Utility Contract Funding, L.L.C., Vineland Energy LLC, Cedar Brakes II, L.L.C.

Description: Notice of non-material changes of status of J.P. Morgan Ventures Energy Corporation, et al.

Filed Date: 03/11/2009.

Accession Number: 20090311-5227.

Comment Date: 5 p.m. Eastern Time on Wednesday, April 1, 2009.

Docket Numbers: ER08-54-011.

Applicants: ISO New England Inc.

Description: Report of ISO New England Inc. Regarding Report of ISO New England Regarding Implementation of Market Rule Changes to Permit Non-Generating Resources to Participate in the Regulation Market.

Filed Date: 12/19/2008.

Accession Number: 20081219-5158.

Comment Date: 5 p.m. Eastern Time on Thursday, March 26, 2009.

Docket Numbers: ER08-354-003.

Applicants: Wells Fargo Energy Markets, LLC.

Description: Wells Fargo Energy Markets, LLC notifies FERC of a non-material change in status in connection with the acquisition of Wachovia Corp etc.

Filed Date: 03/11/2009.

Accession Number: 20090312-0275.

Comment Date: 5 p.m. Eastern Time on Wednesday, April 1, 2009.

Docket Numbers: ER08-1237-002.

Applicants: Shiloh Wind Project 2, LLC.

Description: Notice of Non-Material Change in Status of Shiloh Wind Project 2, LLC.

Filed Date: 03/11/2009.

Accession Number: 20090311-5181.

Comment Date: 5 p.m. Eastern Time on Wednesday, April 1, 2009.

Docket Numbers: ER09-411-000.

Applicants: Midwest Independent Transmission System Operator, Inc.

Description: Midwest Independent Transmission System Operator, Inc. submits response to FERC's 2/9/09 request for additional information.

Filed Date: 03/11/2009.

Accession Number: 20090316-0064.

Comment Date: 5 p.m. Eastern Time on Wednesday, April 1, 2009.

Docket Numbers: ER09-621-003.

Applicants: TAQA Gen X LLC.

Description: TAQA Gen X, LLC submits a clean and blacklined version of its FERC Electric Tariff, Original Volume 1.

Filed Date: 03/11/2009.

Accession Number: 20090312-0280.

Comment Date: 5 p.m. Eastern Time on Wednesday, April 1, 2009.

Docket Numbers: ER09-805-000.

Applicants: Quntum Energy LLC.

Description: Quntum Energy, LLC submits Petition for Acceptance of Initial Tariff, Waivers and Blanket Authority & requests acceptance of FERC Electric Tariff, Original Volume 1.

Filed Date: 03/13/2009.

Accession Number: 20090316-0223.

Comment Date: 5 p.m. Eastern Time on Friday, April 3, 2009.

Docket Numbers: ER09-826-000.

Applicants: Michigan Waste Energy, Inc.

Description: Michigan Waste Energy, Inc submits FERC Electric Tariff, Original Volume 1.

Filed Date: 03/12/2009.

Accession Number: 20090313-0116.

Comment Date: 5 p.m. Eastern Time on Thursday, April 2, 2009.

Docket Numbers: ER09-832-000; ER09-544-001.

Applicants: NextEra Energy Power Marketing, LLC, FPL Energy Power Marketing, LLC.

Description: NextEra Energy submits Notice of Succession, Revisions to Market-Based Rate Tariff, and Notice of Non-Material Change in Status to reflect the name change.

Filed Date: 03/11/2009.

Accession Number: 20090312-0274.

Comment Date: 5 p.m. Eastern Time on Wednesday, April 1, 2009.

Docket Numbers: ER09-833-000.

Applicants: Entergy Services, Inc.

Description: Entergy Operating Companies resubmits an amendment to Service Schedule MSS-3 of the Entergy System Agreement.

Filed Date: 03/10/2009.

Accession Number: 20090312-0273.

Comment Date: 5 p.m. Eastern Time on Tuesday, March 31, 2009.

Docket Numbers: ER09-834-000.

Applicants: Wyoming Colorado Intertie, LLC.

Description: Wyoming Colorado Intertie, LLC submits an Application for Authority To Sell Transmission Rights at Negotiated Rates, to be effective 3/12/09.

Filed Date: 03/11/2009.

Accession Number: 20090312-0282.

Comment Date: 5 p.m. Eastern Time on Wednesday, April 1, 2009.

Docket Numbers: ER09-835-000.

Applicants: PacifiCorp.

Description: PacifiCorp submits a Transmission Interconnection Agreement etc with Desert Power et al.

Filed Date: 03/11/2009

Accession Number: 20090312-0276.

Comment Date: 5 p.m. Eastern Time on Wednesday, April 1, 2009.

Docket Numbers: ER09-836-000.

Applicants: New York Independent System Operator, Inc.

Description: New York Independent System Operator, Inc submits proposed revisions to its Market Administration and Control Area Services Tariff.

Filed Date: 03/11/2009.

Accession Number: 20090312-0277.

Comment Date: 5 p.m. Eastern Time on Wednesday, April 1, 2009.

Docket Numbers: ER09-837-000.

Applicants: Southern Company Services, Inc.

Description: Southern Companies submits a Service Agreement for the Resale, Reassignment of transfer of Point-to-Point Transmission Service with CER Generation, LLC.

Filed Date: 03/11/2009.

Accession Number: 20090312-0278.

Comment Date: 5 p.m. Eastern Time on Wednesday, April 1, 2009.

Docket Numbers: ER09-838-000.

Applicants: Entegra Power Services LLC.

Description: Entergra Power Services LLC Request for Acceptance of Initial Market-Based Rate Tariff, Waivers and Blanket Authority.

Filed Date: 03/13/2009.

Accession Number: 20090316-0224.

Comment Date: 5 p.m. Eastern Time on Friday, April 3, 2009.

Docket Numbers: ER09-839-000.

Applicants: Midwest Independent Transmission System Operator, Inc.

Description: Midwest ISO submits Facilities Construction Agreement among Wapsipinicon Power Partners, LLC, et al.

Filed Date: 03/12/2009.

Accession Number: 20090313-0128.

Comment Date: 5 p.m. Eastern Time on Thursday, April 2, 2009.

Docket Numbers: ER09-840-000.

Applicants: Southern California Edison Company.

Description: Southern California Edison Company submits revised tariff sheets for the Interconnection Facilities Agreement between SCE and WM Energy Solutions, Inc, etc.

Filed Date: 03/12/2009.

Accession Number: 20090313-0127.

Comment Date: 5 p.m. Eastern Time on Thursday, April 2, 2009.

Docket Numbers: ER09-841-000.

Applicants: PacifiCorp.

Description: PacifiCorp submits Engineering and Procurement Agreement dated 2/10/09 between PacifiCorp and Three Buttes Windpower, LLC, etc.

Filed Date: 03/12/2009.

Accession Number: 20090313-0126.

Comment Date: 5 p.m. Eastern Time on Thursday, April 2, 2009.

Docket Numbers: ER09-842-000.

Applicants: PJM Interconnection L.L.C.

Description: PJM Interconnection, LLC submits executed interconnection service agreement among PJM, Stony Creek Wind Farm, LLC, et al.

Filed Date: 03/12/2009.

Accession Number: 20090313-0125.

Comment Date: 5 p.m. Eastern Time on Thursday, April 2, 2009.

Docket Numbers: ER09-843-000.

Applicants: Maine Public Service Company.

Description: Maine Public Service Company submits informational filing setting forth the changed loss factor eff. 3/1/09 along with back up materials.

Filed Date: 03/12/2009.

Accession Number: 20090313-0123.

Comment Date: 5 p.m. Eastern Time on Thursday, April 2, 2009.

Take notice that the Commission received the following open access transmission tariff filings:

Docket Numbers: OA08-12-005; OA08-113-002.

Applicants: California Independent System Operator Corporation.

Description: California Independent System Operator Corporation's Order 890 Non-Generation Compliance Filing.

Filed Date: 03/11/2009.

Accession Number: 20090311-5201.

Comment Date: 5 p.m. Eastern Time on Wednesday, April 1, 2009.

Docket Numbers: OA08-14-005; OA08-106-001.

Applicants: Midwest Independent Transmission System Operator, Inc.

Description: Compliance filing of Midwest Independent Transmission System Operator, Inc.

Filed Date: 03/12/2009.

Accession Number: 20090312-5106.

Comment Date: 5 p.m. Eastern Time on Thursday, April 2, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-6351 Filed 3-23-09; 8:45 am]

BILLING CODE 6717-01-P